DEPARTMENT OF JUSTICE

Bureau of Alcohol, Tobacco, Firearms and Explosives

[Docket No. ATF 10N; ATF O 1120.3]

Delegation Order—Authority To Maintain the National Firearms Registration and Transfer Record

1. Purpose. This order delegates authority to maintain custody and control of the National Firearms Registration and Transfer Record and authority to execute certifications relative thereto.

2. Cancellation. ATF O 1130.3, Delegation Order—Authority to Maintain the National Firearms Registration and Transfer Record, dated 4/7/1997.

3. Effective Date. This delegation order becomes effective immediately upon publication.

4. Authority. The authority vested in the Director, Bureau of Alcohol, Tobacco, Firearms and Explosives, to maintain a central registry of all firearms in the United States, which are not in the possession of or under the control of the United States, is contained in 27 CFR 479.101.

5. Delegation. Under the authority vested in the Director, ATF, by Department of Justice Final Rule [AG Order No. 2650-2003] as published in the Federal Register on January 31, 2003, and by Title 28 CFR 0.130 through 0.131, the custody and control of the National Firearms Registration and Transfer Record and the authority to execute certifications relative thereto is hereby delegated to the Chief, Firearms and Explosives Services Division, to the Chief, National Firearms Act Branch, and to specialists, and legal instruments (applications) examiners within the National Firearms Act Branch.

6. Redelegation. The authority delegated above may not be redelegated.

7. Questions. Questions regarding this delegation order may be addressed to the Chief, National Firearms Act Branch at 202-927-8330.

Carl J. Truscott,
Director.

[FR Doc. 04-15269 Filed 7-7-04; 8:45 am]

BILLING CODE 4410-FY-P